ENVIRONMENTAL PROTECTION AGENCY

[EPA-HQ-OLEM-2024-0045; FRL-11716-01-OLEM]

Hazardous Waste Electronic Manifest System (“e-Manifest”) Advisory Board: Request for Public Input for Charge Questions to the Advisory Board

AGENCY: Environmental Protection Agency (EPA).

ACTION: Public notice.

SUMMARY: The U.S. Environmental Protection Agency (EPA) invites the public to provide input for potential charge questions which the Agency could consider when consulting the e-Manifest Advisory Board (“Advisory Board”) regarding the operations of EPA's hazardous waste electronic manifest system (“e-Manifest”). Relevant topics could include matters related to the operational activities, functions, policies, and regulations of EPA under the e-Manifest Act. The Advisory Board was established pursuant to the Hazardous Waste Electronic Manifest Establishment Act, (e-Manifest Act), and in accordance with the provisions of the Federal Advisory Committee Act (FACA). The purpose of the Advisory Board is to provide recommendations to the EPA Administrator on matters related to the e-Manifest program activities, functions, policies, and regulations of the EPA under the e-Manifest Act. EPA consults the Advisory Board at least annually.

DATES: Advisory Board charge recommendations comments must be received on or before March 22, 2024.

ADDRESSES: Advisory Board charge question recommendations should be submitted to the public docket under docket No. EPA-HQ-OLEM-2024-0045 at http://www.regulations.gov.

FOR FURTHER INFORMATION CONTACT: Fred Jenkins, Designated Federal Officer (DFO), U.S. Environmental Protection Agency, Office of Resource Conservation and Recovery, email: jenkins.fred@epa.gov; phone: 202-566-0344.

SUPPLEMENTARY INFORMATION: The Hazardous Waste Electronic Manifest System Advisory Board is established in accordance with the provisions of the Hazardous Waste Electronic Manifest Establishment Act (e-Manifest Act) and the Federal Advisory Committee Act (FACA). The Advisory Board is in the public interest and supports the EPA in performing its duties and responsibilities. The Advisory Board meets annually to discuss, evaluate the effectiveness of, and provide recommendations about the system to the EPA Administrator. For more information, please visit the Advisory Board website at https://www.epa.gov/e-manifest/hazardous-waste-electronic-manifest-system-e-manifest-advisory-board.

To help ensure that the e-Manifest system is meeting the needs of its user community, EPA is inviting the public to suggest potential charges for which the Agency could consider asking the Advisory Board to address during future public meetings of the Advisory Board. A charge includes focused questions on a specific topic upon which the Agency could seek to obtain advice or recommendations from the Advisory Board. Relevant topics could include matters related to the operational activities, functions, policies, and regulations of EPA under the e-Manifest Act.

While EPA is soliciting public input on potential future charge questions for the Advisory Board, EPA notes the Agency has sole discretion in determining charge questions ultimately posed to the Advisory Board. EPA also notes that the Advisory Board only provides advice and recommendations to EPA, and EPA in turn considers such advice when making decisions pertaining to the e-Manifest system.

Dated: February 14, 2024.
Carolyn Hoskinson,
Director, Office of Resource Conservation and Recovery.

[FR Doc. 2024-03496 Filed 2-20-24; 8:45 am]

BILLING CODE 6560-50-P